FEDERAL DEPOSIT INSURANCE CORPORATION

[OMB No. 3064-0210]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collection described below (OMB Control No. 3064-0210). The notice of the proposed renewal for this information collection was previously published in the Federal Register on July 18, 2023, allowing for a 60-day comment period. No comments were received.

DATES: Comments must be submitted on or before October 25, 2023.

ADDRESSES: Interested parties are invited to submit written comments to the FDIC by any of the following methods:

• Agency Website: https://www.fdic.gov/resources/regulations/federal-register-publications/.

• Email: comments@fdic.gov. Include the name and number of the collection in the subject line of the message.

• Mail: Jennifer Jones (202-898-6768), Regulatory Counsel, MB-3078, Federal Deposit Insurance Corporation, 550 17th Street NW, Washington, DC 20429.

• Hand Delivery: Comments may be hand-delivered to the guard station at the rear of the 17th Street NW building (located on F Street NW), on business days between 7 a.m. and 5 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Jennifer Jones, Regulatory Counsel, 202-898-6768, jennjones@fdic.gov, MB-3078, Federal Deposit Insurance Corporation, 550 17th Street NW, Washington, DC 20429.

SUPPLEMENTARY INFORMATION:

Proposal to renew the following currently approved collection of information:

1. Title: Reporting Requirements Associated with Resolution Planning.

OMB Number: 3064-0210.

Forms: None.

Affected Public: Covered Companies as defined in 12 CFR part 381.

Burden Estimate:

Table 1—Summary of Estimated Annual Burden
[OMB No. 3064-0210]
Information collection (obligation to respond) | Type of burden (frequency of response) | Number of respondents | Number of responses per respondent | Time per response (HH:MM) | Annual burden (hours)
12 CFR 381.4(a)—Biennial Filers—Domestic | Reporting (Biennial) | 4 | 1 | 40,115:00 | 160,460
12 CFR 381.4(b)—Triennial Full—Complex Foreign | Reporting (Triennial) | 1 | 1 | 9,916:00 | 9,916
12 CFR 381.4(b)—Triennial Full—Foreign and Domestic | Reporting (Triennial) | 7 | 1 | 5,667:00 | 39,669
12 CFR 381.4(c)—Triennial Reduced | Reporting (Triennial) | 27 | 1 | 20:00 | 540
12 CFR 381.4(d)(6)(ii)—Waivers by Covered Companies | Reporting (On occasion) | 1 | 1 | 1:00 | 1
Total Annual Burden (Hours): |  |  |  |  | 210,586

General Description of Collection: This collection comprises the reporting requirements associated with 12 CFR part 381.¹ Section 381 implements the resolution planning requirements of section 165(d) of the Dodd-Frank Wall Street Reform and Consumer Protection Act (the Dodd-Frank Act),² which require certain financial companies (covered companies) to report periodically to the FDIC and the Board of Governors of the Federal Reserve System (Board) (together, the agencies) their plans for rapid and orderly resolution under the U.S. Bankruptcy Code ³ in the event of material financial distress or failure. The goal of the Dodd-Frank Act resolution planning process is to help ensure that a covered company's failure would not have serious adverse effects on financial stability in the United States. The resolution planning process requires covered companies to demonstrate that they have adequately assessed the challenges that their structures and business activities pose to a rapid and orderly resolution in the event of material financial distress or failure and that they have taken action to address those challenges, including through the development of capabilities appropriate to the covered company's size and complexity.

¹ 12 CFR part 381.

² 12 U.S.C. 5365(d).

³ 11 U.S.C. 101-1532.

There is no change in the method or substance of the collection. The 7,254-hour increase in burden hours is a result of an increase in the number of entities subject to the information collection.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on September 20, 2023.
James P. Sheesley,
Assistant Executive Secretary.

[FR Doc. 2023-20682 Filed 9-22-23; 8:45 am]

BILLING CODE 6714-01-P